NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before December 30, 2010. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: request.schedule@nara.gov.

Fax: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of the Army, Agency-wide (N1-AU-10-34, 1 item, 1 temporary item). Master files of an electronic information system used to identify and prioritize construction and repair projects for Installation Management Command.

2. Department of the Army, Agency-wide (N1-AU-10-58, 3 items, 3 temporary items). Master files of electronic information systems that contain maintenance and repair management information, including work plans, inventories, inspections, and budgeting information.

3. Department of the Army, Agency-wide (N1-AU-10-63, 1 item, 1 temporary item). Master files of an electronic information system that contains energy consumption data for active Army, Reserve, and National Guard installations.

4. Department of the Army, Agency-wide (N1-AU-11-24, 1 item, 1 temporary item). Master files of an electronic information system containing information on inventories of military equipment and ammunition.

5. Department of Commerce, Census Bureau (N1-29-10-5, 66 items, 45 temporary items). Records relating to the 2010 Census, covering such processes as address list development, testing of approaches and techniques for implementing the census, data collection, capture and processing, and resolution of challenges to counts. Proposed for permanent retention are scanned images of respondent census forms; the Individual Census Record File containing response data and linkage information to the scanned images; summary data files that provide population totals and counts of population characteristics sorted at a variety of geographic levels; a public use microdata sample file providing demographic, social, economic, and housing data for a sample of the population; record set of publications, studies, and reports; and geographic products and outputs, including maps showing boundaries and names of geographic areas covered by the census and thematic maps illustrating the distribution of population characteristics.

6. Department of Health and Human Services, Office of the Secretary (N1-468-10-2, 1 item, 1 temporary item). Master files of an electronic information system containing data about grants awarded by all operating divisions of the Department of Health and Human Services.

Department of Homeland Security, U.S. Citizenship and Immigration Services (N1-566-10-4, 1 item, 1 temporary item). Master files of an electronic information system containing information necessary to support monitoring and compliance activities for researching and managing misuse, abuse, discrimination, breach of privacy, and fraudulent use of immigration status verification information.

7. Department of Homeland Security, U.S. Coast Guard (N1-26-10-1, 3 items, 3 temporary items). Master files and outputs of an electronic information system used to provide Search and Rescue authorities with accurate information on the positions and characteristics of vessels near a reported distress.

8. Department of the Interior, National Business Center, (N1-48-09-4, 1 item, 1 temporary item). Master files of an electronic information system used to catalog materials housed in the agency's library system, including titles, authors, subject headings, call numbers, and bibliographic entries.

9. Department of the Interior, National Business Center, (N1-48-09-4, 1 item, 1 temporary item). Master files of an electronic information system used to catalog materials housed in the agency's museum system, including information used to identify and track museum objects.

10. Department of Justice, Tax Division (N1-60-09-57, 1 item, 1 temporary item). Master files of an electronic information system containing human resources tracking data.

11. Department of Justice, Justice Management Division (N1-60-10-22, 1 item, 1 temporary item). Files maintained by the Special Authorizations Unit approving the use of funds to cover expenses for witnesses appearing in Federal courts on behalf of the Department of Justice attorneys.

12. Department of Labor, Occupational Safety and Health Administration (N1-100-07-1, 20 items, 14 temporary items). Records pertaining to the Voluntary Protection Program and Strategic Partnership Program, including site approval files, administrative documents, outreach materials, and verification reports. Proposed for permanent retention are program policy files.

13. Department of State, Bureau of Administration (N1-059-10-16, 13 items, 13 temporary items). Master files and reports of an electronic information system that contains data on the agency's Freedom of Information Act requests and responses, including full and partial releases and denied requests. Also includes non-responsive documents, internal research requests, ethics in government and constituent congressional requests, special collections, pre-publication reviews of manuscripts, and other review requests. Statistical and case management reports are also covered on this schedule.

14. Department of State, Bureau of Administration (N1-59-10-17, 13 items, 13 temporary items). Records include department notices and announcements; post reports; records related to requesting, tracking, and billing for printing jobs; service reports for equipment; records related to ordering and maintaining photocopiers; master files of an electronic information system containing information on publication distribution; and an intranet site. The intranet site contains notices and announcements, post reports, post information, photos, forms, and other product and service information for the Office of Global Publishing Solutions.

15. Administrative Office of the United States Courts, Agency-wide (N1-116-10-1, 1 item, 1 temporary item). Working papers used in conducting voluntary management reviews.

16. Export-Import Bank of the United States, Agency-wide (N1-275-10-6, 1 item, 1 temporary item). Master files of an electronic information system used to validate data used for reporting requirements for medium-term loan guarantees, insurance policies, and working capital.

17. National Aeronautics and Space Administration, Agency-wide (N1-255-10-2, 3 items, 3 temporary items). Master files of electronic information systems containing information on quality and management, including audits, evaluations, quality reports, customer feedback surveys, survey responses, and corrective actions.

18. National Aeronautics and Space Administration, Agency-wide (N1-255-10-5, 24 items, 21 temporary items). Records relating to environmental management files, including routine correspondence, baseline documents, summaries, monitoring activities, waste manifests, permit applications, and functional review reports. Proposed for permanent retention are records and waste manifests of significant programs, projects, and incidents that have large impacts on the environment.

19. National Archives and Records Administration, Office of the General Counsel (DAA-64-2010-5, 1 item, 1 temporary item). Master files of an electronic information system used to track garnishment actions.

20. National Mediation Board, Agency-wide (N1-13-11-1, 4 items, 1 temporary item). Records of the Presidential Emergency Boards, including routine case notes. Proposed for permanent retention are official case files and reports.

Dated: November 24, 2010.
Michael J. Kurtz,
Assistant Archivist for Records Services—Washington, DC.

[FR Doc. 2010-30216 Filed 11-29-10; 8:45 am]

BILLING CODE 7515-01-P